DEPARTMENT OF JUSTICE

Antitrust Division

Notice Pursuant to The National Cooperative Research and Production Act of 1993—Telemanagement Forum

Notice is hereby given that, on October 30, 2020, pursuant to Section 6(a) of the National Cooperative Research and Production Act of 1993, 15 U.S.C. 4301 et seq. (“the Act”), TM Forum, A New Jersey Non Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Communications Business Automation Network, South Beach Tower, SINGAPORE; Boom Broadband Limited, Liverpool, UNITED KINGDOM; Evolving Systems, Englewood, CO; Statflo Inc., Toronto, CANADA; Celona Technologies, Cupertino, CA; TelcoDR, Austin, TX; Sybica, Burlington, CANADA; EDX, Eugene, OR; Mavenir Systems, Richardson, TX; C3.ai, Redwood City, CA; Aria Systems Inc., San Francisco, CA; Telsy Spa, Torino, ITALY; Covalense Digital Solutions Pvt Ltd, Karnataka, INDIA; Dawiyat, Riyadh, SAUDI ARABIA; Datastream Digital Sdn Bhd, Bandar Seri Begawan, BRUNEI; Public Telecommunication Corporation (PTC), Sanaa, YEMEN; Three Ireland, Dublin, IRELAND; UCS Global Technologies PVT LTD, Srinagar, INDIA; MVN University, Palwal Haryana, INDIA; Innovile Technology S.L., Barcelona, SPAIN; Thinkskink, Ciudad de México, MEXICO; Agile Shift (Pty) Ltd, Durbanville, Cape Town, SOUTH AFRICA; Aarhus University—Department of Business Development and Technology, Herning, DENMARK; Beakwise Inc., Istanbul, TURKEY; Electron Bridge, Noida, INDIA; La Universidad Global de Honduras, Tegucigalpa, HONDURAS; Boston Harbor Consulting LLC, Boston, MA; Neptune Consulting, East London, SOUTH AFRICA; Universidad de las Américas Quito, Quito, ECUADOR; Universitat der Bundeswehr, Neubiberg, GERMANY; Urban Economic, London, UNITED KINGDOM; Hans Rudolf Stucki Sole Trader, Kehrsatz, SWITZERLAND; Etisalat Egypt, New Cairo, EGYPT.

Also, the following members have changed their names: KCOM Group PLC to KCOM Group Limited, Hull, UNITED KINGDOM; SSE Electricity Ltd to SSE Electricity aka Ovo (S) Electricity Ltd, Reading, UNITED KINGDOM; Wavenet International (PVT) Limited to Global Wavenet Pte Ltd, Singapore, SINGAPORE; Dynamic Design Ltd to VertiGIS GmbH, Wels, AUSTRIA; Alepo USA to Alepo Technologies Inc, Austin, TX.

In addition, the following parties have withdrawn as parties to this venture: Amborella, Paris Ile-de, FRANCE; Cloudstreet, Espoo, FINLAND; Corporacion Digitel, C.A., Caracas, VENEZUELA; DataSpark PTE LTD, Singapore, SINGAPORE; Defence Science & Technology Agency, Singapore, SINGAPORE; Digalance, Dubai, UNITED ARAB EMIRATES; Diksha Technologies Pvt Ltd, Bengaluru, INDIA; Edge Technologies, Fairfax, VA; Elastic Path Software Inc, Vancouver, CANADA; Embrix Inc., Irving, TX; Fujian Newland Software Engineering Co., Ltd, Fuzhou, CHINA; Ideas That Work, LLC, Shiloh, IL; IP Total Software S.A, Cali, COLOMBIA; KayCon IT-Consulting, Koln, GERMANY; K C Armour & Co, Croydon, AUSTRALIA; Macellan, Montreal, CANADA; Mariner Partners, Saint John, CANADA; Millicom International Cellular S.A., Luxembourg, LUXEMBOURG; MIND C.T.I. LTD, Yoqneam Ilit, ISRAEL; Minima Global, London, UNITED KINGDOM; MyRepublic Pte Ltd, Singapore, SINGAPORE; Netka System Company Limited, Bangkok, THAILAND; Office of Emergency Communications, McLean, VA; Pepperdine University, Malibu, CA; Resolvetel Ltd, Henley-on-Thames, UNITED KINGDOM; Roads and Transport Authority, Dubai (UAE), Dubai, UNITED ARAB EMIRATES; Siminn, Reykjavík, ICELAND; Skytel, Ulaanbaatar, MONGOLIA; SMATMASS Pty Ltd, Johannesburg, SOUTH AFRICA; Tacira Technologies, São Paulo, BRAZIL; TelcoVas Solutions and Services Limited, Sharjah, UNITED ARAB EMIRATES; Telecta Pte. Ltd, Singapore, SINGAPORE; Thales Communications SA, Gennevilliers Cedex, FRANCE; Tigo Tanzania, Dar es Salaam, TANZANIA; TransWare AG, Weibergraben 2b, Kusel, GERMANY; Vlocity, San Francisco, CA; wi-mobile Research Group, University of Augsburg, Augsburg, GERMANY; Zeetta Networks, Bristol, UNITED KINGDOM.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on July 21, 2020. A notice was published in the Federal Register pursuant to Section 6(b) of the Act on July 31, 2020 (85 FR 46178).

Suzanne Morris,
Chief, Premerger and Division Statistics, Antitrust Division.

[FR Doc. 2020-25723 Filed 11-20-20; 8:45 am]

BILLING CODE 4410-11-P